DEPARTMENT OF THE TREASURY

Internal Revenue Service

Open Meeting of the Area 6 Taxpayer Advocacy Panel (Including the States of Arizona, Colorado, Idaho, Montana, New Mexico, North Dakota, Oregon, South Dakota, Utah, Washington, and Wyoming)

AGENCY: Internal Revenue Service (IRS) Treasury.

ACTION: Notice of meeting.

SUMMARY: An open meeting of the Area 6 Taxpayer Advocacy Panel will be conducted. The Taxpayer Advocacy Panel is soliciting public comment, ideas, and suggestions on improving customer service at the Internal Revenue Service.

DATES: The meeting will be held Tuesday, February 3, 2009.

FOR FURTHER INFORMATION CONTACT: Dave Coffman at 1-888-912-1227, or (206) 220-6096

SUPPLEMENTARY INFORMATION: Notice is hereby given pursuant to Section 10(a)(2) of the Federal Advisory Committee Act, 5 U.S.C. App. (1988) that a meeting of the Area 6 Taxpayer Advocacy Panel will be held Tuesday, February 3, 2009, at 1 p.m. Pacific Time. For more information, please contact Dave Coffman. Mr. Coffman may be reached at 1-888-912-1227, or (206) 220-6095. You can submit written comments to the panel by faxing the comments to (206) 220-5760, or by mail to Taxpayer Advocacy Panel, 915 Second Avenue, Stop W-406, Seattle, WA 98174, or you can post comments to the Website at http://www.improveirs.org.

The agenda will include the following: Various IRS issues.

Dated: December 22, 2008.
Roy L. Block,
Acting Director, Taxpayer Advocacy Panel.

[FR Doc. E9-153 Filed 1-8-09; 8:45 am]

BILLING CODE 4830-01-P